DEPARTMENT OF HOMELAND SECURITY

Coast Guard

33 CFR Part 110

[Docket No. USCG-2008-0006]

RIN 1625—AA01

Seventh Coast Guard District, Captain of the Port Zone Jacksonville, Temporary Restricted Anchorage

AGENCY: Coast Guard, DHS.

ACTION: Proposed rule; withdrawal.

SUMMARY: The Coast Guard is withdrawing its proposed rule concerning the establishment of three temporary restricted anchorages with associated safety/security zones within the Captain of the Port Zone Jacksonville. The proposed rule is being withdrawn because the geographic locations of the proposed anchorage areas are beyond three nautical miles from the baseline of the territorial sea.

DATES: The proposed rule published at 73 FR 12925, March 11, 2008, is withdrawn, as of June 2, 2009.

ADDRESSES: The docket for this withdrawn rulemaking is available for inspection or copying at the Docket Management Facility (M-30), U.S. Department of Transportation, West Building Ground Floor, Room W12-140, 1200 New Jersey Avenue SE., Washington, DC 20590, between 9 a.m. and 5 p.m., Monday through Friday, except Federal holidays. You may also find this docket on the Internet by going to http://www.regulations.gov, selecting the Advanced Docket Search option on the right side of the screen, inserting USCG-2008-0006 in the Docket ID box, pressing Enter, and then clicking on the item in the Docket ID column.

FOR FURTHER INFORMATION CONTACT: If you have questions about this notice, contact Lieutenant Commander Mark Gibbs at U.S. Coast Guard Sector Jacksonville Prevention Department, telephone 904-564-7563, e-mail Mark.A.Gibbs@uscg.mil. If you have questions on viewing material in the docket, call Renee V. Wright, Program Manager, Docket Operations, telephone 202-366-9826.

SUPPLEMENTARY INFORMATION:

Background

On March 11, 2008, we published a notice of proposed rulemaking entitled “Seventh Coast Guard District, Captain of the Port Zone Jacksonville, Temporary Restricted Anchorage” in the Federal Register (73 FR 12925). We received no comments on the proposed rule; no public meeting was requested and none was held.

The rulemaking concerned establishment of three, multi-purpose, temporary restricted anchorages with associated safety/security zones to service vessels intending to call on the ports of Jacksonville or Fernandina, within the Captain of the Port Zone Jacksonville as defined by 33 CFR 3.35-20. These temporary restricted anchorages and associated safety/security zones were designed for the geographic separation and/or restriction of vessels or persons on such vessels when such vessels or persons pose or are suspected of posing a safety, public health, environmental, or security threat.

Withdrawal

The proposed rule sought to establish anchorage areas beyond three nautical miles from the territorial sea baseline. Currently, the Coast Guard's authority under the Rivers and Harbors Act does not allow it to create anchorages more than three miles from the territorial sea baseline (see 33 CFR 2.20 and 2.22). Therefore, we are withdrawing our proposal, which was published on March 11, 2008, in the Federal Register (73 FR 12925).

Authority: We issue this notice of withdrawal under the authority of 33 U.S.C. 471, 1221 through 1236, 2030, 2035, 2071; 33 CFR 1.05-1; and Department of Homeland Security Delegation No. 0170.1.

Dated: May 12, 2009.
R.S. Branham,
Rear Admiral, U.S. Coast Guard, Commander, Coast Guard Seventh District.

[FR Doc. E9-12707 Filed 6-1-09; 8:45 am]

BILLING CODE 4910-15-P